OFFICE OF PERSONNEL MANAGEMENT

Submission for OMB Review; Request for Review of an Expiring Information Collection: OPM Form 805 Series

AGENCY: Office of Personnel Management.

ACTION: Notice.

SUMMARY: In accordance with the Paperwork Reduction Act of 1995 (Public Law 104-13, May 22, 1995), this notice announces that the Office of Personnel Management has submitted simultaneously with publication of this notice a request to the Office of Management and Budget for review of an expiring information collection: OPM Form 805 Series. OPM Form 805, Application to be Listed Under the Voting Rights Act of 1965, is used to elicit information from persons applying for voter registration under the authority of the Voting Rights Act of 1965. The requirements for voter eligibility vary from State to State; therefore, OPM Form 805 is a blanket number covering a number of forms that conform to the individual State's requirements. For a number of years, there were forms for 10 States: Alabama, Arizona, Georgia, Louisiana, Mississippi, New Mexico, North Carolina, South Carolina, Texas (English and Spanish language versions), and Utah. Because OPM has never been asked to list voters in Arizona, New Mexico, North Carolina, and Utah, we allowed the approval of those forms to lapse in 1997 at the request of the Voting Rights Section in the Civil Rights Division of the Department of Justice. The form requires 20 minutes to complete. Approximately 10 individuals complete the form annually for a total public burden of 4 hours.

For copies of this proposal, call Ms. Mary Beth Smith-Toomey on (202) 606-8358 or email mbtoomey@opm.gov.

DATES: Comments on this proposal should be received on or before February 7, 2001.

ADDRESSES: Send or deliver comments to—

Anna Marie Schuh, Assistant Director for Merit Systems Oversight, Office of Personnel Management, 1900 E Street, NW., Room 7677, Washington, DC 20415-6000

and

Joseph Lackey, OPM Desk Officer, Office of Information and Regulatory Affairs, Office of Management and Budget, New Executive Office Building, NW., Room 10235, Washington, DC 20503

FOR INFORMATION REGARDING ADMINISTRATIVE COORDINATION, CONTACT: P. Kaziah Clayton, Office of Merit Systems, Oversight and Effectiveness, (202) 606-2531, pkclayto@opm.gov.

U.S. Office of Personnel Management.
Janice R. Lachance,
Director.

[FR Doc. 01-429 Filed 1-5-01; 8:45 am]

BILLING CODE 6325-01-P